DEPARTMENT OF THE INTERIOR

Bureau of Land Management

[ID-410-1652-IA]

Restriction Order Notice

AGENCY: Bureau of Land Management, Interior.

ACTION: Notice of Restriction Order No. ID-410-01, Wallace Forest Conservation Area, Kootenai County, Idaho.

SUMMARY: The Restriction Order prohibits building, maintaining, or using a fire or campfire within the Wallace Forest Conservation Area, described as all public lands administered by the Bureau of Land Management (BLM) located in T.50 N., R. 2 W., Sec. 31; T. 50 N., R. 3 W., Sec. 35; T. 49 N., R. 2 W., Sec. 6 and those portions of T. 49 N., R. 3 W., Sec. 1, which lie north of Coeur d'Alene Lake, Boise Meridian, all in Kootenai County, Idaho. A map depicting the restricted area is available for public inspection at the Bureau of Land Management, Coeur d'Alene Field Office, 1808 North Third Street, Coeur d'Alene, Idaho. These restrictions become effective immediately and will remain in effect unless revoked and/or replaced with supplementary rules.

DATES: Effective Date: May 24, 2005.

FOR FURTHER INFORMATION CONTACT: Terry Kincaid at the BLM Coeur d'Alene Field Office, 1808 N. Third St., Coeur d'Alene, ID 83814 or call (208) 769-5031.

SUPPLEMENTARY INFORMATION: The authority for establishing these restrictions is Title 43, Code of Federal Regulations, 8364.1. The fire restriction is necessary to protect public property from vandalism by fire, protect neighboring residents and adjacent private property from fire dangers, protect public investments, and prevent habitat degradation due to illegal firewood cutting. The affected area is located in a rural setting. Short-term camping is allowed on the undeveloped public land and at one semi-developed campsite, but facilities for the containment of campfires are not provided.

These restrictions do not apply to:

(1) Any Federal, state, or local government officer or member of an organized rescue or fire fighting force while in the performance of an official duty.

(2) Any Bureau of Land Management employee, agent, contractor, or cooperator while in the performance of an official duty.

(3) Any person or group expressly authorized by an Authorized Officer to use a fire on the subject public land through the issuance of a permit or other use authorization instrument.

(4) The use of charcoal in portable barbecue grills made of metal with raised edges of sufficient height to contain all ash and residue.

(5) The use of pressurized liquid or gas camp stoves.

Violation of this order is punishable by a fine not to exceed $1,000 and/or imprisonment not to exceed 12 months. Such violation may also be subject to the enhanced penalties provided for by 18 U.S.C. 3571.

Dated: April 26, 2005.
Jenifer Arnold,
Acting District Manager.

[FR Doc. 05-10259 Filed 5-23-05; 8:45 am]

BILLING CODE 4310-GG-P